DEPARTMENT OF AGRICULTURE

Grain Inspection, Packers and Stockyards Administration

Request for Extension and Revision of a Currently Approved Information Collection Under the Clear Title Program

AGENCY: Grain Inspection, Packers and Stockyards Administration, USDA.

ACTION: Notice and request for comments.

SUMMARY: This notice announces the Grain Inspection, Packers and Stockyards Administration's (GIPSA) intention to request approval from the Office of Management and Budget (OMB) for an extension of a currently approved information collection in support of the reporting and recordkeeping requirements under the “Clear Title” regulations as authorized by Section 1324 of the Food Security Act of 1985, as amended (Act). This approval is required under the Paperwork Reduction Act of 1995 (PRA).

DATES: We will consider comments that we receive by December 2, 2013.

ADDRESSES: We invite you to submit comments on this notice. You may submit comments by any of the following methods:

• Internet: Go to http://www.regulations.gov. Follow the online instructions for submitting comments.

• Hardcopy: Mail, hand deliver, or courier to Dexter Thomas, GIPSA, USDA, 1400 Independence Avenue SW., Room 2530-S, Washington, DC 20250-3604.

• Fax: (202) 690-2173

Instructions: All comments should refer the date and page number of this issue of the Federal Register. The comments and other documents relating to this action will be available for public inspection during regular business hours.

FOR FURTHER INFORMATION CONTACT: Catherine M. Grasso, Program Analyst, Policy and Litigation Division at (202) 720-7201, or Catherine.M.Grasso@usda.gov.

SUPPLEMENTARY INFORMATION: GIPSA administers the Clear Title Program under the Act (7 U.S.C. 1631) for the Secretary of Agriculture (Secretary). Regulations implementing the Clear Title Program require that States implementing central filing system for notification of liens on farm products have such systems certified by the Secretary. These regulations are contained in 9 CFR 205, “Clear Title—Protection for Purchasers of Farm Products.” Nineteen States have certified central filing systems currently.

Title: “Clear Title” Regulations to implement section 1324 of the Food Security Act of 1985.

OMB Number: 0580-0016.

Expiration Date of Approval: May 31, 2014.

Type of Request: Extension and revision of a currently approved information collection.

Abstract: The information is needed to carry out the Secretary's responsibility for certifying a State's central filing system under section 1324 of the Act. Section 1324 of the Act enables States to establish central filing systems to notify potential buyers, commission merchants, and selling agents of security interests (liens) against farm products. The Secretary has delegated authority to GIPSA for certifying these systems. Currently, 19 States have certified central filing systems. The purpose of this notice is to solicit comments from the public concerning our information collection.

Estimate of Burden: Public reporting and recordkeeping burden for this collection of information is estimated to be 5 to 40 hours per response (amendments to certified systems require less time, new certifications require more time).

Respondents (Affected Public): States seeking certification of central filing systems to notify buyers of farm products of any mortgages or liens on the products.

Estimated Number of Respondents: Less than 1 per year. However, since the enactment of the Food Conservation and Energy Act of 2008, otherwise known as the 2008 Farm Bill, which amended the Act to allow States to maintain master debtor lists with Social Security numbers or taxpayer identification numbers that are encrypted for security purposes, we have had 3 requests for amendments.

Estimated Number of Responses per Respondent: 1.

Estimated Total Annual Burden on Respondents: 5-40 hours.

As required by the PRA (44 U.S.C. 3506(c)(2)(A)) and its implementing regulations (5 CFR 1320.8(d)(1)(i)), GIPSA specifically requests comments on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Authority: 44 U.S.C. 3506 and 5 CFR 1320.8.

Larry Mitchell,
Administrator, Grain Inspection, Packers and Stockyards Administration.

[FR Doc. 2013-23973 Filed 10-1-13; 8:45 am]

BILLING CODE 3410-KD-P